DEPARTMENT OF HEALTH AND HUMAN SERVICES

National Institutes of Health

Center for Scientific Review; Notice of Closed Meetings

Pursuant to section 1009 of the Federal Advisory Committee Act, as amended, notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: Center for Scientific Review Special Emphasis Panel; Molecular and Cellular Biology of Virus Infection.

Date: July 21, 2025.

Time: 11:00 a.m. to 2:00 p.m.

Agenda: To review and evaluate grant applications.

Address: National Institutes of Health, Rockledge II, 6701 Rockledge Drive, Bethesda, MD 20892.

Meeting Format: Virtual Meeting.

Contact Person: Syed Mohammad Moin, Ph.D., Scientific Review Officer, The Center for Scientific Review, The National Institutes of Health, 6701 Rockledge Drive, Bethesda, MD 20892, (301) 594-7593, syed.moin@nih.gov.

Name of Committee: Center for Scientific Review Special Emphasis Panel; Member Conflict: Medical Imaging Investigations.

Date: July 24-25, 2025.

Time: 9:00 a.m. to 6:00 p.m.

Agenda: To review and evaluate grant applications.

Address: National Institutes of Health, Rockledge II, 6701 Rockledge Drive, Bethesda, MD 20892.

Meeting Format: Virtual Meeting.

Contact Person: Carlos Jose Perez-Torres, Ph.D., Scientific Review Officer, The Center for Scientific Review, The National Institutes of Health, 6701 Rockledge Drive, Bethesda, MD 20892, (301) 480-0451, carlos.perez-torres@nih.gov.

Name of Committee: Center for Scientific Review Special Emphasis Panel; RFA-DA-26-024: Engaging Loved ones in Recovery Processes to Enhance Recovery Capital and Outcomes.

Date: July 24, 2025.

Time: 9:00 a.m. to 6:00 p.m.

Agenda: To review and evaluate grant applications.

Address: National Institutes of Health, Rockledge II, 6701 Rockledge Drive, Bethesda, MD 20892.

Meeting Format: Virtual Meeting.

Contact Person: Christiane M. Robbins, Ph.D., Scientific Review Officer, Scientific Review Branch, Eunice Kennedy Shriver National Institute of Child Health and Human Development, NIH, DHHS, 6710B Rockledge Drive, Rm. 2121B, Bethesda, MD 20817, (301) 451-4989, crobbins@mail.nih.gov.

Name of Committee: Center for Scientific Review Special Emphasis Panel; RFA Panel: Research to Address Systemic and Structural Barriers and Facilitators to Improve the HIV Pre-Exposure Prophylaxis (PrEP) Care Continuum for People Who Use Substances.

Date: July 24, 2025.

Time: 9:00 a.m. to 1:30 p.m.

Agenda: To review and evaluate grant applications.

Address: National Institutes of Health, Rockledge II, 6701 Rockledge Drive, Bethesda, MD 20892.

Meeting Format: Virtual Meeting.

Contact Person: Michael Eric Authement, Ph.D., Scientific Review Officer, Office of Scientific Review, Division of Extramural Activities, 6707 Democracy Boulevard, Bethesda, MD 20817, (301) 496-2961, michael.authement@nih.gov.

Name of Committee: Center for Scientific Review Special Emphasis Panel; K Awards.

Date: July 24-25, 2025.

Time: 9:00 a.m. to 6:30 p.m.

Agenda: To review and evaluate grant applications.

Address: National Institutes of Health, Rockledge II, 6701 Rockledge Drive, Bethesda, MD 20892.

Meeting Format: Virtual Meeting.

Contact Person: Dan Yu, Ph.D. Scientific Review Officer Office of Scientific Review/DERA National Heart, Lung, and Blood Institute National Institutes of Health, 6705 Rockledge Drive, Room 206-D, Bethesda, MD 20892, (301) 402-1081, dan.yu@nih.gov.

Name of Committee: Center for Scientific Review Special Emphasis Panel; Small Business: Cell and Molecular Biology.

Date: July 24-25, 2025.

Time: 9:30 a.m. to 6:00 p.m.

Agenda: To review and evaluate grant applications.

Address: National Institutes of Health, Rockledge II, 6701 Rockledge Drive, Bethesda, MD 20892.

Meeting Format: Virtual Meeting.

Contact Person: Marie-Jose Belanger, Ph.D., Scientific Review Officer, Center for Scientific Review, National Institutes of Health, 6701 Rockledge Drive, Rm. 6188, MSC 7804, Bethesda, MD 20892, 301-435-1267, belangerm@csr.nih.gov.

Name of Committee: Center for Scientific Review Special Emphasis Panel; Brain Injury and Neurodegeneration.

Date: July 24-25, 2025.

Time: 9:30 a.m. to 6:00 p.m.

Agenda: To review and evaluate grant applications.

Address: National Institutes of Health, Rockledge II, 6701 Rockledge Drive, Bethesda, MD 20892.

Meeting Format: Virtual Meeting.

Contact Person: Nilkantha Sen, Ph.D., Scientific Review Officer, Scientific Review Branch, Division of Extramural Activities, National Institute of Neurological Disorders and Stroke, NIH, 31 Center Drive, Bethesda, MD 20892, (301) 496-9223, nilkantha.sen@nih.gov.

Name of Committee: Center for Scientific Review Special Emphasis Panel; Clinical Vision Research.

Date: July 24, 2025.

Time: 10:00 a.m. to 3:30 p.m.

Agenda: To review and evaluate grant applications.

Address: National Institutes of Health, Rockledge II, 6701 Rockledge Drive, Bethesda, MD 20892.

Meeting Format: Virtual Meeting.

Contact Person: Barbara S. Mallon, Ph.D., Scientific Review Officer, Center for Scientific Review, National Institutes of Health, 6701 Rockledge Drive, Bethesda, MD 20892, (301) 480-8992, mallonb@mail.nih.gov.

Name of Committee: Center for Scientific Review Special Emphasis Panel RFA Panel; Animal and Biological Material Resource Centers and Resource-Related Research Projects.

Date: July 24, 2025.

Time: 10:00 a.m. to 6:00 p.m.

Agenda: To review and evaluate grant applications.

Address: National Institutes of Health, Rockledge II, 6701 Rockledge Drive, Bethesda, MD 20892.

Meeting Format: Virtual Meeting.

Contact Person: Maryam Rohani, Ph.D., Scientific Review Officier, NIAID, Immunology Review Branch, BG, 5601 Fishers Lane, Room 3G56 5601, Fishers Lane, Rockville, MD 20852, (301) 761-6656, maryam.rohani@nih.gov.

Name of Committee: Center for Scientific Review Special Emphasis Panel; Mentored Patient-Oriented Research Career Development Award.

Date: July 24, 2025.

Time: 11:00 a.m. to 4:00 p.m.

Agenda: To review and evaluate grant applications.

Address: National Institutes of Health, Rockledge II, 6701 Rockledge Drive, Bethesda, MD 20892.

Meeting Format: Virtual Meeting.

Contact Person: Joshua Park, Ph.D., Scientific Review Officer, SRB Scientific Review Branch, NIA, (National Institute on Aging), 5601 Fishers Lane, Suite 8B, Rockville, MD 20892, (301) 443-7613, joshua.park4@nih.gov.

Name of Committee: Center for Scientific Review Special Emphasis Panel; Member Conflict: Population and Public Health Approaches in HIV/AIDS.

Date: July 24, 2025.

Time: 1:30 p.m. to 5:30 p.m.

Agenda: To review and evaluate grant applications.

Address: National Institutes of Health, Rockledge II, 6701 Rockledge Drive, Bethesda, MD 20892.

Meeting Format: Virtual Meeting.

Contact Person: Michael Eric Authement, Ph.D., Scientific Review Officer, Office of Scientific Review, Division of Extramural Activities, 6707 Democracy Boulevard, Bethesda, MD 20817, (301) 496-2961, michael.authement@nih.gov.

(Catalogue of Federal Domestic Assistance Program Nos. 93.306, Comparative Medicine; 93.333, Clinical Research, 93.306, 93.333, 93.337, 93.393-93.396, 93.837-93.844, 93.846-93.878, 93.892, 93.893, National Institutes of Health, HHS)

Dated: June 23, 2025.
Sterlyn H Gibson
Program Specialist, Office of Federal Advisory Committee Policy.

[FR Doc. 2025-11744 Filed 6-25-25; 8:45 am]

BILLING CODE 4140-01-P